DEPARTMENT OF COMMERCE

Patent and Trademark Office

Agency Information Collection Activities; Submission to the Office of Management and Budget (OMB) for Review and Approval; National Summer Teacher Institute

AGENCY: United States Patent and Trademark Office, Department of Commerce.

ACTION: Notice of information collection; request for comment.

SUMMARY: The United States Patent and Trademark Office (USPTO), in accordance with the Paperwork Reduction Act of 1995, invites comments on the extension and revision of an existing information collection: 0651-0077 (National Summer Teacher Institute). The purpose of this notice is to allow 60 days for public comment preceding submission of the information collection to OMB.

DATES: To ensure consideration, comments regarding this information collection must be received on or before May 10, 2021.

ADDRESSES: Interested persons are invited to submit written comments by any of the following methods. Do not submit Confidential Business Information or otherwise sensitive or protected information:

• Email: InformationCollection@uspto.gov. Include “0651-0077 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Joyce Ward, Education Director, Office of the Chief Communications, United States Patent and Trademark Office, P.O. Box 1450, Alexandria, VA 22313-1450; by telephone at 571-272-8424; or by email to Joyce.Ward@uspto.gov with “0651-0077 comment” in the subject line. Additional information about this information collection is also available at http://www.reginfo.gov under “Information Collection Review.”

SUPPLEMENTARY INFORMATION:

I. Abstract

Since 2014, the USPTO has conducted a program entitled “National Summer Teacher Institute on Innovation, STEM, and Intellectual Property.” The National Summer Teacher Institute (NSTI) is a multi-day professional development training opportunity open to all K-12 teachers nationwide. NSTI is designed to increase teachers' knowledge of making, inventing, creating, and protecting intellectual property so they can inspire the next generation of innovators and entrepreneurs. This program accepts applications for participation in the NSTI. Interested individuals must submit an application requesting to participate in the program. In the application, applicants must certify that they are teachers with at least 3 years' experience; identify STEM related fields they have taught in the last year; identify STEM related fields they plan to teach in the upcoming year; and acknowledge their commitment to incorporate the learnings from the NSTI into their curriculum, where applicable, and cooperate with sharing lessons and outcomes with teachers and the USPTO.

The NSTI participants have included teachers in STEM, innovation, entrepreneurship, and related fields who will learn about innovative strategies to help increase student learning and achievement in these fields together with elements of Intellectual Property (IP) and invention education. Outside scientists, engineers, inventors, creators, and entrepreneurs are among the presenters and workshop leads. Attendees participate in field trips (e.g. to NASA, Energy, National Labs) and have opportunities for networking with other educators and invited experts.

The USPTO also conducts webinars and workshops for K-12 educators in conjunction with or subsequent to the NSTI to provide information on IP, invention, and STEM topics of interest to K-12 educators. In light of the pandemic, the NSTI and some of the workshops may take place in virtual environments. Workshops will be available for educators with less than 3 years of experience, pre-service teachers, higher education faculty, home school, and informal educators. USPTO plans to conduct surveys on the NSTI, workshops, and the webinars in order to gain useful feedback from program participants.

II. Method of Collection

Items in this information collection are submitted via online electronic submissions.

III. Data

OMB Control Number: 0651-0077.

Form Numbers: (NSTI = National Summer Teacher Institute)

• NSTI 1 (Summer Teacher Institute Application)

• NSTI 2 (Summer Teacher Institute Participant Survey)

• NSTI 3 (Summer Teacher Institute Webinar/Workshop Survey)

Type of Review: Extension and revision of a currently approved information collection.

Affected Public: Individuals or households.

Estimated Number of Respondents: 7,000 respondents per year.

Estimated Number of Responses: 13,700 responses per year.

Estimated Time per Response: The USPTO estimates that it takes the public from approximately 5 minutes (0.08 hours) to 30 minutes (0.5 hours), depending on the complexity of the situation, to gather the necessary information, prepare the appropriate documents, and submit the information to the USPTO.

Estimated Total Annual Respondent Burden Hours: 2,999 hours.

Estimated Total Annual Respondent (Hourly) Cost Burden: $116,032.

Table 1—Total Hourly Burden for Individuals or Households Respondents
Item No. | Item | Estimated annual respondents | Estimated annual responses | Estimated time for response (hour) | Estimated annual burden (hour/year) | Rate ¹ ($/hour) | Estimated annual respondent cost burden
|  |  | (a) | (b) | (a) × (b) = (c) | (d) | (c) × (d) = (e)
1 | Summer Teacher Institute Applicants: Application (NSTI 1) | 2,100 | 2,100 | 0.50 (30 minutes) | 1,050 | $38.69 | $40,625
2 | Summer Teacher Institute Participants: Application (NSTI 1) | 900 | 900 | 0.50 (30 minutes) | 450 | 38.69 | 17,411
| Survey (NSTI 2) |  | 900 | 0.25 (15 minutes) | 225 | 38.69 | 8,705
| Webinar/Workshop Survey (NSTI 3) |  | 1,800 | 0.13 (8 minutes) | 234 | 38.69 | 9,053
3 | Webinar/Workshop Survey (NSTI 3) | 4,000 | 8,000 | 0.13 (8 minutes) | 1,040 | 38.69 | 40,238
Total |  | 7,000 | 13,700 |  | 2,999 |  | 116,032
¹ The USPTO expects that secondary schoolteachers will complete the applications and surveys. The professional hourly rate for secondary school teachers is $31.69, based upon the May 2019 Occupational Labor Statistics Report for secondary school teachers (25-2031); https://www.bls.gov/oes/current/oes252031.htm.

Estimated Total Annual (Non-hour) Respondent Cost Burden: $0. There are no capital start-up, maintenance, postage, or recordkeeping costs.

Respondent's Obligation: Required to obtain or retain benefits.

IV. Request for Comments

The USPTO is soliciting public comments to:

(a) Evaluate whether the proposed collection of information is necessary for the proper performance of the functions of the Agency, including whether the information will have practical utility;

(b) Evaluate the accuracy of the Agency's estimate of the burden of the proposed collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information in a comment, be aware that the entire comment—including personal identifying information—may be made publicly available at any time. While you may ask in your comment to withhold personal identifying information from public view, USPTO cannot guarantee that it will be able to do so.

Kimberly Hardy,
Information Collections Officer, Office of the Chief Administrative Officer, United States Patent and Trademark Office.

[FR Doc. 2021-04787 Filed 3-8-21; 8:45 am]

BILLING CODE 3510-16-P